DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Cross-Site Evaluation for the Benefit of Homeless Individuals (GBHI)—NEW

SAMHSA's Center for Substance Abuse Treatment (CSAT) is conducting a cross-site external evaluation of the impact of the Grants for the Benefit of Homeless Individuals (GBHI) program. GBHI is a grant program that links substance abuse and mental health treatment with housing and other needed services and expands and strengthens these services for people with substance use and co-occurring mental health problems who are homeless. The national cross-site evaluation will assess the effectiveness, efficiency and sustainability of the GBHI project services for client abstinence, housing stability, homelessness, and related employment, criminal justice and services outcomes, as well as lessons learned to inform future efforts.

The CSAT GBHI Client Interview—Baseline and the CSAT GBHI Client Interview—6-Month Follow-up have been developed to assess program impact on client outcomes based on review of the literature and consultation with a panel of national experts, GBHI grantees and SAMHSA. The CSAT GBHI Client Interview is composed of questions unique from the Government Performance and Results Act (GPRA) Tool that measure the outcomes of interest and subpopulations of focus: homelessness, housing, treatment history, readiness to change, trauma symptoms, housing and treatment choice, burden and satisfaction, military service, employment, and criminal justice involvement. Immediately following the SAMHSA-required administration of the GPRA CSAT Discretionary Services Client Level Tool, which is completed by enrolled accepted clients for each grantee project at baseline and 6-month follow-up, the paper and pencil CSAT GBHI Client Interview will be administered face-to-face by the GPRA interviewer. Questions regarding perception of care and treatment coercion will be self-administered by participating clients and returned to the interviewer in a sealed envelope to be included in the full package mailed to the cross-site evaluation coordinating center by the interviewer. Client participation is voluntary; non-cash incentives will be given at baseline worth a $10 value and at 6-month follow-up worth a $25 value. Clients will be assigned unique identifiers by local projects; responses will be recorded on a fill-in-the-bubble answer sheet, mailed by the grantee project to the cross-site evaluation coordinating center, and scanned into a secure dataset. This process will eliminate the need for data entry, reduce cost and data entry error, and ensure confidentiality for cross-site data.

The CSAT GBHI Stakeholder Survey will be conducted with GBHI program stakeholders via a web survey to assess the types of stakeholder partnerships involved in the GBHI program and the barriers and strategies developed to overcome barriers to facilitate the implementation and sustainability of project activities under the GBHI program. Each survey respondent will be issued a username and password to login to and complete the secure web-based survey. The web-based survey format will reduce burden on the respondent and minimize potential for measurement error.

Estimate of Annualized Burden Hours
Instrument/activity | Number of respondents | Number of responses per respondent | Total number of responses | Average burden per response | Total burden hours per collection
CSAT GBHI Client Interview:
Baseline Data Collection | 5,885 | 1 | 5,885 | .33 | 1,942
6-month Follow-up Data Collection (80% of baseline) | 4,708 | 1 | 4,708 | .40 | 1,883
CSAT GBHI Stakeholder Survey | 648 | 1 | 648 | .28 | 181
Total | 11,241 |  | 11,241 |  | 4,006

Written comments and recommendations concerning the proposed information collection should be sent by January 18, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: December 13, 2010.
Elaine Parry,
Director, Office of Management, Technology and Operations.

[FR Doc. 2010-31721 Filed 12-16-10; 8:45 am]

BILLING CODE 4162-20-P